DEPARTMENT OF ENERGY

Federal Energy Regulatory Commission

[Project No. 9028-012]

Banister Hydro, Inc.; Notice of Application Accepted for Filing and Soliciting Motions To Intervene and Protests

Take notice that the following hydroelectric application has been filed with the Commission and is available for public inspection.

a. Type of Application: New Major License.

b. Project No.: 9028-012.

c. Date filed: July 26, 2024.

d. Applicant: Banister Hydro, Inc. (Banister Hydro).

e. Name of Project: Halifax Hydroelectric Project (Halifax Project or project).

f. Location: On the Banister River, near the Town of Halifax in Halifax County, Virginia.

g. Filed Pursuant to: Federal Power Act 16 U.S.C. 791(a)-825(r).

h. Applicant Contact: Sherri Loon, Coordinator of Operations—USA, Banister Hydro, Inc c/o KEI (USA) Power Management Inc., 423 Brunswick Ave., Gardiner, ME 04345; (207) 203-3026; sherri.loon@kruger.com or Lewis Loon, General Manager, Operations and Maintenance—USA, Banister Hydro, Inc. c/o KEI (USA) Power Management Inc., 423 Brunswick Ave., Gardiner, ME 04345; (207) 203-3027; lewis.loon@kruger.com.

i. FERC Contact: Chris Millard at (202) 502-8256, or christopher.millard@ferc.gov.

j. Deadline for filing motions to intervene and protests: on or before 5:00 p.m. Eastern Daylight Time on November 3, 2025.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Halifax Hydroelectric Project (P-9028-012).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis at this time.

l. The Halifax Hydroelectric Project consists of the following existing facilities: (1) a 682-foot-long and 36-foot-high dam, with a 301-foot-long concrete spillway (consisting of a 24-foot-long fixed weir, twelve 3-foot-wide piers, eleven 20-foot-wide gated bays, and a 21-foot-long fixed weir), a 73-foot-8-inch-long integral powerhouse and intake structure, and a 307-foot-8-inch-long non-overflow structure (consisting of a 57-foot-6-inch-long concrete gravity wall, 203-foot-2-inch-long sheet pile cells with earthfill, and a 47-foot-long earthfill section); (2) an approximately 374-acre impoundment with a gross storage capacity of 3,510 acre-feet at a normal water surface elevation of 351.3 feet mean sea level (MSL); ¹ (3) two 455-kilowatt (kW) turbine-generator units and a 875-kW turbine-generator unit for a total installed capacity of 1,785 kW; (4) a 486-foot-long, 4.16-kilovolt (kV) generator lead connecting to a 4.16/13.2-kV transformer, and a 26-foot-long, 13.2-kV transmission line connecting to the local distribution system; and (5) appurtenant facilities.

¹ In a revised Exhibit A filed May 22, 2025, Banister Hydro states that elevation data expressed as MSL are equal to that of the National Geodetic Vertical Datum of 1929 at the Halifax Project.

The Halifax Project operates in a run-of-river mode with a continuous minimum flow of 5 cubic feet per second (cfs), or inflow, whichever is less. There is minimal to no available usable storage behind the dam and if river flow is less than 135 cfs, all water is spilled over the dam. The project is typically operated remotely in automatic control mode. Banister Hydro is not proposing any new project facilities or changes to the operation of the project.

From 2019 to 2023, average annual generation at the Halifax Project was 2,403 megawatt-hours.

m. A copy of the application can be viewed on the Commission's website at http://www.ferc.gov, using the “eLibrary” link. Enter the docket number, excluding the last three digits in the docket number field, to access the document (P-9028). For assistance, contact FERC at FERCOnlineSupport@ferc.gov, or call toll-free, (866) 208-3676 or (202) 502-8659 (TTY).

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Milestone | Target date
Issue Scoping Document Notice for comments | October 2025.
Scoping Comments due | November 2025.
Request Additional Information (if necessary) | December 2025.
Issue Notice of Ready for Environmental Analysis | December 2025.

Final amendments to the applications must be filed with the Commission no later than 30 days from the issuance date of the notice of ready for environmental analysis.

Dated: September 4, 2025.
Debbie-Anne A. Reese,
Secretary.

[FR Doc. 2025-17266 Filed 9-8-25; 8:45 am]

BILLING CODE 6717-01-P